DEPARTMENT OF VETERANS AFFAIRS

Privacy Act of 1974; System of Records

AGENCY: Department of Veterans Affairs (VA).

ACTION: Notice of establishment of a new system of records.

SUMMARY: The Privacy Act of 1974 (5 U.S.C. 552a(e)(4)) requires that all agencies publish in the Federal Register a notice of the existence and character of their systems of records. Notice is hereby given that the Department of Veterans Affairs (VA) is establishing a new system of records entitled “Executive Veterans Affairs Contact Management System (Exec VA)—VA” (141VA005Q3).

DATES: Comments on this new system of records must be received no later than April 15, 2009. If no public comment is received, the new system will become effective April 15, 2009.

ADDRESSES: Written comments concerning the proposed new system of records may be submitted through www.Regulations.gov; by mail or hand delivery to the Director, Regulations Management (02REG), Department of Veterans Affairs, 810 Vermont Avenue, NW., Room 1068, Washington, DC 20420; or by fax to (202) 273-9026; or e-mail to VAregulations@va.gov. All comments received will be available for public inspection in the Office of Regulation Policy and Management, Room 1063B, between the hours of 8 a.m. and 4:30 p.m., Monday through Friday (except holidays). Please call (202) 461-4902 for an appointment. In addition, during the comment period, comments may be viewed online through the Federal Docket Management System (FDMS) at www.Regulations.gov.

FOR FURTHER INFORMATION CONTACT: Director, Customer Relations & Executive Projects, Office of the Secretary, 810 Vermont Avenue, NW., Washington, DC 20420; (202) 273-4830; fax 202 273-4877.

SUPPLEMENTARY INFORMATION:

I. Description of the Proposed System of Records

The Department of Veterans Affairs (VA) receives and responds to numerous inquiries concerning benefits administered by the Department and other matters regarding veterans. These inquiries are received from veterans, their representatives, individuals and entities doing business with VA via the telephone. This information is collected and put into a Web-based communications system known as Executive Veterans Affairs Contact Management System (Exec VA)—VA.

Information requested to process the inquiries may include the caller's (and veteran's, if applicable) name, address, phone number, claim number and Social Security number if provided by the caller. Callers are not required to provide personal or contact information; however, in some instances VA may need this information in order to respond to specific inquiries. The authority to maintain these records is title 38, United States Code, section 501.

Exec VA is accessed through a secured Intranet Web site located on the VA network. A username and password are required to log into the system. Once an authorized user has successfully logged into the system, information gleaned from the caller is entered into a form and assigned to pre-established groups, of VA employees, representing VA staff offices, and VA's three administrations: Veterans Health Administration (VHA); Veterans Benefits Administration (VBA); and National Cemetery Administration (NCA). The assigned person(s) receives an e-mail message notifying them of the inquiry being assigned to them. The Assignee then logs into the system and performs the required action, as dictated by the details of the issue, and closes the call.

The details of the call, including the caller's and veteran's personally identifiable information (PII), are kept in a database located in Austin, Texas. This collection of data is used to better serve our veterans by providing a searchable history of their claims, requests, issues and complaints.

II. Proposed Routine Use Disclosures of Data in the System

We are proposing to establish the following Routine Use disclosures of information maintained in the system:

1. VA may disclose information from the record of an individual to a congressional office in response to an inquiry made at the request of that individual. VA must be able to provide information about individuals to adequately respond to inquiries from Members of Congress at the request of constituents who have sought their assistance.

2. VA may disclose information to individuals, organizations, private or public agencies, or other entities whom VA has a contract or agreement to perform such services as VA may deem practicable for the purposes of laws administered by VA, in order for the individual or entity with whom VA has an agreement or contract to perform the services of the contract or agreement. This routine use includes disclosures by the individual or entity performing the service for VA to any secondary individual or entity to perform an activity that is necessary for the individual or entity with whom VA has a contract or agreement to provide the service to VA. This routine use, which also applies to agreements that do not qualify as contracts defined by Federal procurement laws and regulations, is consistent with OMB guidance in OMB Circular A-130, App. I, paragraph 5a(1)(b) that agencies promulgate routine uses to address disclosure of Privacy Act-protected information to contractors in order to perform the services contracts for the agency.

3. VA may disclose information in this system to the Equal Employment Opportunity Commission when requested in connection with investigations of alleged or possible discriminatory practices, examination of Federal affirmative employment programs, or for other functions of the Commission as authorized by law or regulation. VA must be able to provide information to EEOC to assist it in fulfilling its duties to protect employees' rights, as required by statute and regulation.

4. VA may disclose to the Federal Labor Relations Authority, including its General Counsel, information related to the establishment of jurisdiction, the investigation and resolution of allegations of unfair labor practices, or information in connection with the resolution of exceptions to arbitration awards when a question of material fact is raised, in matters properly before the Federal Services Impasses Panel, and to investigate representation petitions and conduct or supervise representation elections. VA must be able to provide information to FLRA to comply with the statutory mandate under which it operates.

5. VA may disclose information in this system to officials of the Merit Systems Protection Board, or the Office of the Special Counsel, when requested in connection with appeals, special studies of the civil service and other merit systems, review of rules and regulations, investigation of alleged or possible prohibited personnel practices, and such other functions, promulgated in 5 U.S.C. 1205 and 1206, or as may be authorized by law. VA must be able to provide information to MSPB to comply with the statutory mandate under which it operates.

6. VA may disclose information identified in 5 U.S.C. 7114(b)(4) to officials of labor organizations recognized under 5 U.S.C. Chapter 71 when relevant and necessary to their duties of exclusive representation concerning personnel policies, practices, and matters affecting working conditions. VA must be able to provide information to unions to assist them in advancing workers' interests with respect to wages, benefits, and working conditions. The routine use does not provide any greater access to Privacy Act protected information under section 7114(b) then the unions would have to the information if it was not protected by the Privacy Act. The routine use simply removes the Privacy Act as a bar to the disclosure of the information at the Agency's discretion.

7. VA may disclose information from this system of records to the National Archives and Records Administration in records management inspections conducted under title 44, U.S.C. NARA is responsible for archiving old records no longer actively used but which may be appropriate for preservation, and for the physical maintenance of the Federal government's records. VA must be able to provide the records to NARA in order to determine the proper disposition of such records.

8. VA may disclose on its own initiative any information in this system, except the names and home addresses of veterans and their dependents, which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto. VA must be able to provide on its own initiative information that pertains to a violation of laws to law enforcement authorities in order for them to investigate and enforce those laws. Under 38 U.S.C. 5701(a) and (f), VA may only disclose the names and addresses of veterans and their dependents to Federal entities with law enforcement responsibilities. This is distinct from the authority to disclose records in response to a qualifying request from a law enforcement entity, as authorized by Privacy Act subsection 5 U.S.C. 552a(b)(7).

9. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that disclosure of the records to the Department of Justice is a use of the information contained in the records that is compatible with the purpose for which VA collected the records. VA, on its own initiative, may disclose records in this system of records in legal proceedings before a court or administrative body after determining that the disclosure of the records to the court or administrative body is a use of the information contained in the records that is compatible with the purpose for which VA collected the records. VA must be able to provide information to DoJ in litigation where the United States or any of its components is involved and has an interest.

10. VA may, on its own initiative, disclose any information or records to appropriate agencies, entities, and persons when (1) VA suspects or has confirmed that the integrity or confidentiality of information in the system of records has been compromised; (2) the Department has determined that as a result of the suspected or confirmed compromise there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosure that is required by the Memorandum from the Office of Management and Budget (M-07-16), dated May 22, 2007, of all systems of records of all federal agencies. Further, the disclosure allows VA to respond to a suspected or confirmed data breach, including the conduct of any risk analysis or provision of credit protection services as provided in 38 U.S.C. 5724 and 5727.

11. VA may disclose information in this system of records to another Federal agency; either on VA's initiative or in response to a request from another Federal agency for the information after VA determines that such information is relevant to that Federal agency's mission. VA must be able to assist other Federal agencies in carrying out their operational missions and programs.

III. Compatibility of the Routine Uses

The Privacy Act permits disclosure of information about individuals without their consent for a routine use when the information will be used for a purpose that is compatible with the purpose for which the information is collected. In all of the routine use disclosures described above, either the recipient of the information will use the information in connection with a matter relating to one of VA's programs; to provide a benefit to VA; or because disclosure is required by law.

The Report of Intent to Publish a New System of Records Notice and an advance copy of the system notice has been sent to the appropriate Congressional committees and to the Director of the Office of Management and Budget (OMB) as required by 5 U.S.C. 552a(r) (Privacy Act), as amended, and guidelines issued by OMB (65 FR 77677), December 12, 2000.

Approved: February 24, 2009.
John R. Gingrich,
Chief of Staff, Department of Veterans Affairs.

141VA005Q3

SYSTEM NAME:

Executive Veterans Affairs Contact Management System (Exec VA)—VA.

SECURITY CLASSIFICATION:

None.

SYSTEM LOCATION:

The primary location of Exec VA application and database is at the Corporate Data Center Operations (CDCO), 1615 Woodward Street, Austin, Texas 78772. Some copies of electronic records and paper records may be available at various Department of Veterans Affairs (VA) offices where a matter has been referred for action. Additionally, copies of records in this system of records may be stored at various VA back up sites, including, Hines, Ill.

CATEGORIES OF INDIVIDUALS COVERED BY THE SYSTEM:

The category of the individuals covered by the Exec VA database encompasses veterans, their dependents, representatives, beneficiaries, and others contacting VA on veterans' issues.

CATEGORIES OF RECORDS IN THE SYSTEM:

Records are maintained in electronic and paper form depending on the nature of the materials received, background information compiled, and/or response sent. Each may include the names, Social Security numbers, mailing addresses, telephone numbers, and other personal identifiers routinely required to identify a correspondent or subject. Other record items maintained may include personal facts about medical, financial, or memorial benefits related to the correspondent, veteran, dependent or beneficiary. Internal VA records may include (but are not limited to) VA administrative, financial and personnel information. Records may include scanned document, letter, e-mail, fax, Internet document, tracking sheet, note, and documentation of a telephone call and/or of a meeting with an individual.

AUTHORITY FOR MAINTENANCE OF THE SYSTEM:

44 U.S.C. 3501, Note; Pub. L. 107-347, sec. 206(d); Note; 5 U.S.C. 301, and 553.

PURPOSE:

The Exec VA is a contact management system designed to track issues from veterans, others acting on their behalf, and others seeking information regarding veterans' issues. Initial contact may come from calls placed to a VA call center, telephone inquiries received at a VA office, or other medium including fax, e-mail, or information received at http://www.va.gov. The Exec VA system is designed to provide a one-stop repository for veterans' issues. Upon receipt of an inquiry, pertinent information is entered into Exec VA. The system provides access controls maintaining the integrity and confidentiality of the contact management system.

ROUTINE USES OF RECORDS MAINTAINED IN THE SYSTEM, INCLUDING CATEGORIES OF USERS AND THE PUROSES OF SUCH USES:

1. VA may disclose information from the record of an individual to a congressional office in response to an inquiry made at the request of that individual.

2. VA may disclose information to individuals, organizations, private or public agencies, or other entities whom VA has a contract or agreement to perform such services as VA may deem practicable for the purposes of laws administered by VA, in order for the individual or entity with whom VA has an agreement or contract to perform the services of the contract or agreement.

3. VA may disclose information in this system to the Equal Employment Opportunity Commission when requested in connection with investigations of alleged or possible discriminatory practices, examination of Federal affirmative employment programs, or for other functions of the Commission as authorized by law or regulation.

4. VA may disclose to the Federal Labor Relations Authority, including its General Counsel, information related to the establishment of jurisdiction, the investigation and resolution of allegations of unfair labor practices, or information in connection with the resolution of exceptions to arbitration awards when a question of material fact is raised, in matters properly before the Federal Services Impasses Panel, and to investigate representation petitions and conduct or supervise representation elections.

5. VA may disclose information in this system to officials of the Merit Systems Protection Board, or the Office of the Special Counsel, when requested in connection with appeals, special studies of the civil service and other merit systems, review of rules and regulations, investigation of alleged or possible prohibited personnel practices, and such other functions, promulgated in 5 U.S.C. 1205 and 1206, or as may be authorized by law.

6. VA may disclose information identified in 5 U.S.C. 7114(b)(4) to officials of labor organizations recognized under 5 U.S.C. Chapter 71 when relevant and necessary to their duties of exclusive representation concerning personnel policies, practices, and matters affecting working conditions.

7. VA may disclose information from this system of records to the National Archives and Records Administration (NARA) in records management inspections conducted under title 44, U.S.C. NARA is responsible for archiving old records no longer actively used but which may be appropriate for preservation, and for the physical maintenance of the Federal government's records.

8. VA may disclose on its own initiative any information in this system, except the names and home addresses of veterans and their dependents, which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

9. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that disclosure of the records to the Department of Justice is a use of the information contained in the records that is compatible with the purpose for which VA collected the records. VA, on its own initiative, may disclose records in this system of records in legal proceedings before a court or administrative body after determining that the disclosure of the records to the court or administrative body is a use of the information contained in the records that is compatible with the purpose for which VA collected the records.

10. VA may disclose information in this system of records to another Federal agency; either on VA's initiative or in response to a request from another Federal agency for the information after VA determines that such information is relevant to that Federal agency's mission.

DISCLOSURE TO CONSUMER REPORTING AGENCIES:

The Exec VA database will not disclose information to any consumer reporting agency from this system of record.

POLICIES AND PRACTICES FOR STORING, RETRIEVING, ACCESSING, RETAINING, AND DISPOSING OF RECORDS IN THE SYSTEM:

STORAGE:

Exec VA data is regularly backed up and stored at the Corporate Data Center Operations (CDCO). A copy of the regular backups is securely transported and stored in a controlled storage facility at Hines, Illinois.

RETRIEVABILITY:

Records are retrieved by various data elements and key word searches, among which are by: Name, Number, Call#, Priority, Status, Subject, Address, Call Type, History, Claim#, SSN, Country, State, VISN, Phone, Date, time, group, and Call Range.

SAFEGUARDS:

The Exec VA is accessible by authorized VA personnel only with a user ID and a password that can be authenticated. Staff of the CDCO performs backups for the Exec VA Application Server and the Oracle Database Server, respectively, according to the following schedule:

• Incremental data backups on a daily basis; and

• Full data backups on a weekly basis.

RETENTION AND DISPOSAL:

Records will be maintained and disposed of, in accordance with records disposition authority, approved by the Archivist of the United States.

SYSTEM MANAGER(S) AND ADDRESSES:

Director, Customer Relations & Executive Projects, Office of the Secretary, 810 Vermont Ave., NW., Washington, DC 20420; (202) 273-4830.

NOTIFICATION PROCEDURES:

Individuals seeking to determine whether this System of Records contains information, about them, should address written inquiries to the Office of Secretary (00), Department of Veterans Affairs, 810 Vermont Ave., NW., Washington, DC 20420. Requests should contain the full name, address and telephone number of the individual making the inquiry.

RECORD ACCESS PROCEDURE:

Individuals seeking to access or contest the contents of records, about themselves, contained in this System of Records should address a written request, including full name, address and telephone number to the Office of Secretary (00), Department of Veterans Affairs, 810 Vermont Ave., NW., Washington, DC 20420.

CONTESTING RECORD PROCEDURE:

(See Record Access Procedure above.)

RECORD SOURCE CATEGORIES:

Individuals who contact VA via the VA Web site at http://www.va.gov or by using a VA call center include veterans, veterans' family members and/or their representatives, government employees (Federal, State and local), realtors and home buyers, small business owners, vendors, funeral directors, clinicians, teachers, researchers, employees of veterans' service organizations, member of the public and all other individuals and representatives of organizations.

EXEMPTIONS CLAIMED FOR THE SYSTEM:

No exemptions claimed for this system.

[FR Doc. E9-5599 Filed 3-13-09; 8:45 am]

BILLING CODE 8329-01-P